DEPARTMENT OF LABOR

Employment and Training Administration

[TA-W-57,083]

AVX Corporation; El Paso, TX; Notice of Termination of Investigation

Pursuant to Section 221 of the Trade Act of 1974, an investigation was initiated on May 2, 2005 in response to petition filed by a company official on behalf of workers at AVX Corporation, El Paso, Texas.

The petitioner has requested that the petition be withdrawn. Consequently, and the investigation has been terminated.

Signed in Washington, DC, this 5th day of May, 2005.
Richard Church,
Certifying Officer, Division of Trade Adjustment Assistance.

[FR Doc. E5-2520 Filed 5-18-05; 8:45 am]

BILLING CODE 4510-30-P